AGENCY FOR INTERNATIONAL DEVELOPMENT

Center for Development Innovation; Agency Information Collection Activities; Proposed Collection; Comment Request; Open Innovation Competitions—Prizes, Challenges, Hackathons

AGENCY: Center for Development Innovation, USAID.

ACTION: Notice of information collection.

SUMMARY: As required by the Paperwork Reduction Act of 1995, USAID/CDI requests comments on a proposed generic collection of information for USAID-sponsored open innovation competitions prizes, challenges, and hackathons. USAID/CDI will consider all comments received in response to this notice before requesting approval of this generic collection of information from the Office of Management and Budget (OMB). The information collected includes: Organizational contact information, organization size disaggregated by gender, point of contact, the name of the project, stage and amount of funding requested, partner organizations and management teams, sectors the innovation addresses, country(ies) project is situated, presence/absence of permanent offices in that country, project duration, other sources of funding past and present including USAID, method and source of referral to the challenge/prize/hack-a-thon, and detailed information about the innovation including expected impact.

DATES: Interested persons are invited to submit comments regarding the proposed information collection within 60 calendar days from the date of this publication.

ADDRESSES: Interested persons are invited to submit comments regarding the information collection to Michael Jackson, USAID, Center for Development Innovation (CDI) at mjackson@usaid.gov.

FOR FURTHER INFORMATION CONTACT: Michael Jackson, USAID, Center for Development Innovations 202-216-3467 or mjackson@usaid.gov.

SUPPLEMENTARY INFORMATION: USAID/CDI seeks approval of the following generic collection of information request:

Title: Open innovation competitions—Prizes, Challenges and hackathons.

OMB Number: not assigned.

Type of Review: Renewal of generic collection.

Method of Collection: electronic.

Frequency of Response: periodically.

Affected Public: Open Innovation Competition contestants.

Estimated Number of Respondents: approximately 800 participants annually based on current year estimates.

Estimated Time per Response: response time varies depending on the nature of the open innovation competition from an average estimated response time of 10 hours/participant which is significantly less than offerers would be expected to spend on a traditional proposal. Some 100 participants may require as much as 2 additional hours each to provide additional information upon selection.

Total Estimated Annual Burden: 8,200 hours (800 participants × 10 hours/participant) + (100 participants × 2 hours/participant).

General Description of Collection: USAID/CDI establishes open innovation competitions—prizes, challenges and hackathons to source breakthrough innovations from innovators around the world to further USAID's ability to address its development and humanitarian response priorities.

Request for Comments

USAID/CDI solicits written comments from all interested persons about the proposed collection of information. USAID/CDI specifically solicits information relevant to the following topics:

• Whether the collection of information described above is necessary for the proper performance of USAID/CDI's functions, including whether the information will have practical utility;

• Whether the estimated burden of the proposed collection of information is accurate;

• Whether the quality, utility, and clarity of the information to be collected could be enhanced; and

• Whether the burden imposed by the collection of information could be minimized by the use of automated, electronic or other technological collection techniques, or other forms of information technology.

Michael Jackson,
General Development Officer, Center for Development Innovation, Challenges and Prizes, U.S. Agency for International Development.

[FR Doc. 2020-01961 Filed 1-31-20; 8:45 am]

BILLING CODE P